DEPARTMENT OF TRANSPORTATION

Federal Highway Administration

Environmental Impact Statement: Billings County, North Dakota

AGENCY: Federal Highway Administration (FHWA), DOT.

ACTION: Revised Notice of Intent.

SUMMARY: The FHWA is issuing this notice to advise the public that an environmental impact statement will be prepared for a proposed roadway project and river crossing over the Little Missouri River within a study area bounded by the southern border of the North Unit of Theodore Roosevelt National Park (TRNP), the northern border of the South Unit of TRNP, the eastern border of U.S. Highway 85, and the western border of N.D. Highway 16.

FOR FURTHER INFORMATION CONTACT: Mark Schrader, Environment and Right-of-Way Engineer, Federal Highway Administration, 1471 Interstate Loop, Bismarck, North Dakota 58503, Telephone: (701) 250-4343 Extension 111. Bryon Fuchs, Local Government Division, North Dakota Department of Transportation, 608 East Boulevard Avenue, Bismarck, North Dakota 58505-0700, Telephone: (701) 328-2516.

SUPPLEMENTARY INFORMATION: On October 12, 2006, the FHWA, in cooperation with the NDDOT, published a Notice of Intent to develop an Environmental Impact Statement (EIS) for a proposed roadway project and river crossing over the Little Missouri River within a study area bounded by the northern border of the Billings County line, the southern border of the South Unit of Theodore Roosevelt National Park (TRNP), the eastern border of U.S. Highway 85, and the western border of N.D. Highway 16. This project is ongoing and, since the initial Notice of Intent, the northern limits of the study area have been expanded to the southern border of the North Unit of TRNP. Additionally, the southern limits of the study area have been decreased to the northern border of the South Unit of TRNP. The Elkhorn Ranch Unit of TRNP is excluded from the project study area.

The purpose of the proposed project is to provide for the safe and efficient movement of people and commerce. Specifically, the purpose of the proposed project is to:

■ Improve the transport of goods and services within the study area;

■ Provide the public with a centrally accessible, safe, efficient, and reliable link between ND Highway 16 and US Highway 85 within the study area (system linkage);

■ Connect the transportation network on the east side of the Little Missouri River to the transportation network on the west side of the Little Missouri River (internal linkage);

■ Accommodate a variety of vehicles ranging from a two-wheel drive passenger vehicle to agricultural, commercial, and industrial vehicles and equipment.

The safe and efficient movement of people and commerce would be accomplished by improving connectivity through construction of a reliable crossing of the Little Missouri River, and upgrading existing roadways and/or creating new roadways to best meet roadway design standards. Alternatives under consideration include: (1) Take no action; (2) construction of a river crossing structure: bridge or low-water crossing; and (3) different roadway alignments to the river crossing, including upgrading and/or constructing roadways to meet NDDOT guidelines/standards.

Letters describing the proposed action and soliciting comments were distributed to appropriate Federal, State, and local agencies, as well as other interested parties, in February and May of 2007. Scoping meetings and alternatives public workshops were also held with agencies and the public in March and July of 2008. Due to the passage of time, Federal, State, and local agencies, as well as other interested parties, will be re-solicited for their views on the proposed action. Additional public workshops on the alternatives will be held. In addition, a public hearing will be held. Public notice will be given of the time and place of the meetings and hearing. The Draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: November 29, 2010.
Wendall Meyer,
Division Administrator, Federal Highway Administration.

[FR Doc. 2010-30424 Filed 12-3-10; 8:45 am]

BILLING CODE 4910-22-P